DEPARTMENT OF COMMERCE

National Oceanic and Atmospheric Administration

RIN 0648-XH97

Endangered Species; File No. 1595-02

AGENCY: National Marine Fisheries Service (NMFS), National Oceanic and Atmospheric Administration (NOAA), Commerce.

ACTION: Notice; issuance of permit modification.

SUMMARY: Notice is hereby given that Mr. Michael M. Hastings, University of Maine, 5717 Corbett Hall, Orono, ME 04469, has been issued a modification to scientific research Permit No. 1595-01.

ADDRESSES: The modification and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Brandy Belmas or Malcolm Mohead, (301)713-2289.

SUPPLEMENTARY INFORMATION: On February 7, 2008, notice was published in the Federal Register (73 FR 7261) that a modification of Permit No. 1595, issued April 18, 2007 (72 FR 19469), had been requested by the above-named individual. The requested modification has been granted under the authority of the Endangered Species Act of 1973, as amended (ESA; 16 U.S.C. 1531 et seq.) and the regulations governing the taking, importing, and exporting of endangered and threatened species (50 CFR 222-226).

In addition to all research activities authorized under Permit No. 1595-01, this modification authorizes the: (1) increase in the amount of annual take of shortnose sturgeon (Acipenser brevirostrum) from 100 to 200 fish; (2) addition of D-net sampling as a method of shortnose sturgeon egg and larvae collection; (3) addition of non-lethal blood sampling; and (4) the appointment and removal of research personnel. This modification is valid through the expiration date of the original permit, March 31, 2012.

Issuance of this modification, as required by the ESA was based on a finding that such permit (1) was applied for in good faith, (2) will not operate to the disadvantage of such endangered or threatened species, and (3) is consistent with the purposes and policies set forth in section 2 of the ESA.

Dated: May 21, 2008.
P. Michael Payne,
Chief, Permits, Conservation and Education Division, Office of Protected Resources, National Marine Fisheries Service.

[FR Doc. E8-11883 Filed 5-27-08; 8:45 am]

BILLING CODE 3510-22-S